DEPARTMENT OF COMMERCE

Patent and Trademark Office

Missing Parts Practice

ACTION: Proposed collection; comment request.

SUMMARY: The United States Patent and Trademark Office (USPTO), as part of its continuing effort to reduce paperwork and respondent burden, invites the general public and other Federal agencies to take this opportunity to comment on this new information collection, as required by the Paperwork Reduction Act of 1995, Public Law 104-13 (44 U.S.C. 3506(c)(2)(A)).

DATES: Written comments must be submitted on or before November 1, 2010.

ADDRESSES: You may submit comments by any of the following methods:

• E-mail: InformationCollection@uspto.gov. Include “0651-00xx Missing Parts Practice comment” in the subject line of the message.

• Fax: 571-273-0112, marked to the attention of Susan Fawcett.

• Mail: Susan K. Fawcett, Records Officer, Office of the Chief Information Officer, U.S. Patent and Trademark Office, P.O. Box 1450, Alexandria, VA 22313-1450.

• Federal e-Rulemaking Portal: http://www.regulations.gov.

FOR FURTHER INFORMATION CONTACT: Requests for additional information should be directed to the attention of Raul Tamayo, Legal Advisor, Office of Patent Legal Administration, U.S. Patent and Trademark Office (USPTO), P.O. Box 1450, Alexandria, VA 22313-1450; by telephone 571-272-7728; or by e-mail at raul.tamayo@uspto.gov.

SUPPLEMENTARY INFORMATION:

I. Abstract

In response to a number of requests to reduce the costs due one year after filing a provisional application, the USPTO published a Federal Register notice titled “Request for Comments on Proposed Change to Missing Parts Practice” proposing a change that would provide applicants with an extended time period to reply to a Notice to File Missing Parts requiring certain fees in a nonprovisional application if certain conditions were met. Based on public feedback, the USPTO is implementing an extended missing parts pilot program which will permit applicants to request a 12-month time period to reply to a Notice to File Missing Parts of Nonprovisional Application to pay certain fees. The pilot program would be scheduled to run for one year.

The extended missing parts pilot program is expected to benefit applicants by permitting additional time to determine if patent protection should be sought at a relatively low cost and by permitting applicants to focus efforts on commercialization during this period. The extended missing parts pilot program is also expected to benefit the USPTO and the public by adding publications to the body of prior art, and by removing from the USPTO's workload those nonprovisional applications for which the applicants will later decide not to pursue examination.

There is one form associated with this collection of information. The USPTO has created PTO/SB/421, Request for Extended Missing Parts Pilot Program, for applicants to request participation in the program.

II. Method of Collection

By mail or electronically through EFS-Web using Form PTO/SB/421 to request participation in the extended missing parts pilot program.

III. Data

OMB Number: 0651-00xx.

Form Number(s): PTO/SB/421.

Type of Review: New information collection.

Affected Public: Business or other for profit; not-for-profit institutions.

Estimated Number of Respondents: 10,000 responses per year.

Estimated Time per Response: The USPTO estimates that it will take 15 minutes (0.25 hours) to gather the information, prepare the form, and submit it to the USPTO, depending upon the complexity of the situation. The USPTO expects that it will take the same amount of time to complete and submit the form, whether it is mailed or submitted electronically.

Estimated Total Annual Respondent Burden Hours: 2,500 hours.

Estimated Total Annual Respondent Cost Burden: $812,500. Using the professional hourly rate of $325 for attorneys in private firms, the USPTO estimates $812,500 per year for salary costs associated with respondents.

Item | Estimated time for response | Estimated annual responses | Estimated annual burden hours
Request for Extended Missing Parts Program | 15 minutes | 700 | 175
Request for Extended Missing Parts Program (EFS-Web) | 15 minutes | 9,300 | 2,325
Totals |  | 10,000 | 2,500

Estimated Total Annual Non-Hour Respondent Cost Burden: $0. There are no capital start-up or maintenance costs associated with this information collection. The request does not have filing or other fees associated with it. There are postage and recordkeeping costs associated with this form; however, these costs are covered under OMB Control Number 0651-0032 Initial Patent Applications. Since the requests for participation in the extended missing parts pilot program must be filed with the nonprovisional applications, which are covered under 0651-0032, the USPTO has concluded that the postage costs and filing fees for these requests are part of the cost calculations for 0651-0032 and do not need to be calculated separately for this collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Susan K. Fawcett,
Records Officer, USPTO, Office of the Chief Information Officer.

[FR Doc. 2010-21767 Filed 8-31-10; 8:45 am]

BILLING CODE 3510-16-P